NUCLEAR REGULATORY COMMISSION

Notice of Public Meeting; Pre-application Early Site Permit Meeting for the Clinton Site

AGENCY: Nuclear Regulatory Commission.

ACTION: Notice of public meeting in Clinton, Illinois.

SUMMARY: The U.S. Nuclear Regulatory Commission (NRC) will hold a facilitated meeting on March 20, 2003, to provide information to the public on the NRC Early Site Permit review process, as well as the opportunities for public involvement in that process for the Clinton site. Exelon Generation Company is expected to file an early site permit application in June 2003 for a new reactor or reactors at the Clinton site.

DATE/TIME: The meeting will be held on Thursday, March 20, 2002, from 7 p.m. through 9 p.m. The meeting will be preceded by an informal “orientation session” from 6 p.m. through 7 p.m. to allow for individual discussions with NRC staff members.

Location: Vespasian Warner Public Library, 310 N. Quincy Street, Clinton, Illinois.

FOR FURTHER INFORMATION CONTACT: Francis X. Cameron, Special Council for Public Liaison, Office of General Council, U.S. Nuclear Regulatory Commission, Washington, DC 20555-0001, or by telephone: (301) 415-1642 or e-mail: fxc@nrc.gov. Mr. Cameron will facilitate the meeting.

SUPPLEMENTARY INFORMATION: Additional information can be obtained from the Web site (http://nrcweb.nrc.gov:300/reactors/new-licensing/license-reviews/esp.html), or by contacting Ms. Nanette Gilles at (301) 415-1180, or via e-mail at nvg@nrc.gov.

Dated at Rockville, Maryland, this 26th day of February 2003.
For the Nuclear Regulatory Commission.
James E. Lyons,
Director, New Reactor Licensing Project Office, Office of Nuclear Reactor Regulation.

[FR Doc. 03-4892 Filed 2-28-03; 8:45 am]

BILLING CODE 7590-01-P